DEPARTMENT OF ENERGY

Federal Energy Regulatory Commission

[Project No. 2614-041]

Notice of Intent To File License Application, Filing of Pre-Application Document, Approving Use of the Traditional Licensing Process; City of Hamilton and American Municipal Power, Inc.

a. Type of Filing: Notice of Intent to File License Application and Request to Use the Traditional Licensing Process.

b. Project No.: 2614-041.

c. Date Filed: August 28, 2020.

d. Submitted By: The City of Hamilton, Ohio (City of Hamilton) and American Municipal Power, Inc. (AMP), co-Licensees.

e. Name of Project: Greenup Hydroelectric Project.

f. Location: The Greenup Hydroelectric Project is located at the U.S. Army Corps of Engineers' (Corps) Greenup Locks and Dam on the Ohio River near the Town of Franklin Furnace in Scioto County, Ohio. The project occupies 12.74 acres of federal land administered by the Corps.

g. Filed Pursuant to: 18 CFR 5.3 of the Commission's regulations.

h. Potential Applicant Contacts: Daniel F. Moats, Director of Utility Operations, City of Hamilton, 345 High Street, Suite 450, Hamilton, OH 45011, (513) 785-7245, greenuplicensing@hamilton-oh.gov; and Pamela M. Sullivan, Chief Operating Officer, American Municipal Power Inc., 1111 Schrock Road, Suite 100, Columbus, OH 43229, (614) 540-1111.

i. FERC Contact: Shana Wiseman at (202) 502-8736; or email at shana.wiseman@ferc.gov.

j. The City of Hamilton and AMP filed their request to use the Traditional Licensing Process on August 28, 2020, and provided public notice of their request on the same date. In a letter dated October 19, 2020, the Director of the Division of Hydropower Licensing approved the City of Hamilton and AMP's request to use the Traditional Licensing Process.

k. With this notice, we are initiating informal consultation with the U.S. Fish and Wildlife Service and/or NOAA Fisheries under section 7 of the Endangered Species Act and the joint agency regulations thereunder at 50 CFR, Part 402; and NOAA Fisheries under section 305(b) of the Magnuson-Stevens Fishery Conservation and Management Act and implementing regulations at 50 CFR 600.920. We are also initiating consultation with the Ohio State Historic Preservation Officer (SHPO) and the Kentucky SHPO, as required by section 106, National Historic Preservation Act, and the implementing regulations of the Advisory Council on Historic Preservation at 36 CFR 800.2.

l. With this notice, we are designating the City of Hamilton and AMP as the Commission's non-federal representative for carrying out informal consultation pursuant to section 7 of the Endangered Species Act; and consultation pursuant to section 106 of the National Historic Preservation Act.

m. The City of Hamilton and AMP filed a Pre-Application Document (PAD); including a proposed process plan and schedule with the Commission, pursuant to 18 CFR 5.6 of the Commission's regulations.

n. A copy of the PAD may be viewed and/or printed on the Commission's website (http://www.ferc.gov), using the eLibrary link. Enter the docket number, excluding the last three digits in the docket number field to access the document. The PAD is also available on the applicant's project website at https://hamiltonoh.squarespace.com/greenup-licensing?rq=greenup. At this time, the Commission has suspended access to the Commission's Public Reference Room, due to the proclamation declaring a National Emergency concerning the Novel Coronavirus Disease (COVID-19), issued by the President on March 13, 2020. For assistance, contact FERC Online Support at FERCOnlineSupport@ferc.gov, (866) 208-3676 (toll free), or (202) 502-8659 (TTY).

o. The licensee states its unequivocal intent to submit an application for a new license for Project No. 2614. Pursuant to 18 CFR 16.8, 16.9, and 16.10, each application for a new license and any competing license applications must be filed with the Commission at least 24 months prior to the expiration of the existing license. All applications for license for this project must be filed by February 28, 2024.

p. Register online at http://www.ferc.gov/docs-filing/esubscription.asp to be notified via email of new filing and issuances related to this or other pending projects. For assistance, contact FERC Online Support.

Dated: October 19, 2020.
Nathaniel J. Davis, Sr.,
Deputy Secretary.

[FR Doc. 2020-23645 Filed 10-23-20; 8:45 am]

BILLING CODE 6717-01-P